DEPARTMENT OF JUSTICE

National Institute of Corrections

Solicitation for a Cooperative Agreement—Video Production: Direct Supervision Jails

AGENCY: National Institute of Corrections, U.S. Department of Justice.

ACTION: Solicitation for a cooperative agreement.

SUMMARY: The National Institute of Corrections (NIC) is soliciting proposals from organizations, groups, or individuals to enter into a cooperative agreement for a 12-month period to begin no later than September 15, 2013. Work under this cooperative agreement will involve the production of a 20- to 25-minute, high-end broadcast-quality DVD that introduces podular direct-supervision to a varied audience. The DVD will illustrate direct supervision through narration, interviews, graphics, and footage shot in jails. This project will be a collaborative venture with the NIC Jails Division.

NIC Opportunity Number: 13JD05. This number should appear in the reference line in your cover letter, on Standard Form 424 in section 11 with the title of your proposal, and in the right justified header of your proposal.

Number of Awards and Funds Available: Under this solicitation, one award will be made. Funds awarded under this solicitation may only be used for activities directly related to the project as described herein unless otherwise amended in writing by NIC.

Applications: All applications must be submitted electronically via http://www.grants.gov. Hand delivered, mailed, faxed, or emailed applications will not be accepted. However, three copies of two sample video productions specifying the applicant's role in each production must be submitted before the application due date. To ensure timely delivery of the video please send via a commercial carrier (e.g., FedEx, UPS, DHL, etc.) directly to NIC c/o Danny Downes at 500 First Street NW., Washington, DC 20534.

DATES: Application must be submitted before midnight on Thursday, July 25, 2013.

Authority: Public Law 93-415.

Eligibility of Applicants: An eligible applicant is any public or private agency, educational institution, organization, individual, or team with expertise in the described areas.

SUPPLEMENTARY INFORMATION: Background: Inmate violence and vandalism have been pervasive in American jails. This is a result of our traditional approach to detention, which focuses primarily on physically containing inmates with the use of locks, steel doors, security glass, and bars. In traditional jails, physical barriers separate staff and inmates. As a result, inmates receive little supervision and are essentially left to their own devices. This creates a dangerous environment for both inmates and staff. Podular direct supervision combines a physical plant design with inmate management techniques to shift control of the jail from inmates to staff, which can significantly reduce inmate violence, vandalism, and other problematic behaviors. NIC provides training, technical assistance, and information to local jails on podular direct supervision. Scope of Work: The production company will see the DVD production through from beginning to end. The company will provide staff, equipment, and other resources necessary for all aspects of DVD production. The company will provide music, professional voice-over narration, and other talent necessary for the complete production.

Project Director

The production company will assign one staff to oversee the project and work with NIC on all production phases.

NIC Oversight and Approval

NIC will work closely with the production company throughout the project to ensure personnel understand podular direct supervision and that it is portrayed accurately in every detail of the DVD. NIC will be available for questions and quality assurance through all project phases. Each step of the production process will require NIC's approval.

Meetings

Production company staff must be readily available for up to 5 face-to-face meetings with NIC staff when necessary. These meetings will take place at the NIC offices in Washington, DC, or other agreed upon location. NIC will make provisions for telephone conferences or meetings through electronic media as needed.

The project kickoff meeting will take place shortly after the cooperative agreement is awarded. During this meeting, production company staff and NIC will discuss direct supervision and all project activities.

Scriptwriting

NIC anticipates using the script from a previous NIC video on this subject as a basis for the new DVD. This script may need revision, but it covers all concepts to be included in the DVD. Working with NIC, the production company will produce the final written script for the video.

Talent

The production company will provide a professional voice-over narrator for the video and other talent deemed necessary during the scripting process. NIC does not anticipate hiring professional actors for filming. NIC will arrange for individuals to participate in filmed interviews and staged events, such as meetings.

Filming Locations

Filming and interviews will take place at up to 5 jails throughout the United States. The production company will film inside jails, including inmate housing units, booking rooms, administrative areas, and meeting rooms. NIC will identify and confirm all filming sites. NIC staff will accompany the film crew to the filming sites.

Audio

The company will provide all music for the video as approved by NIC.

Voice Over

The company will provide professional talent for voice-over narration. NIC must approve all voices used for narration.

Graphics/Effects

The awardee will produce graphics, artwork, animation, and lettering for the DVD. The awardee also will produce digital effects for the transition between DVD segments.

Production Activities

The major activities required to complete the project are listed below. Project activities will begin upon award of this agreement and must be completed 12 months after the award date. The project activity schedule should include the following, at a minimum:

—Production company attends kickoff meeting with NIC

—Production company reviews materials on direct supervision provided by NIC

—NIC develops outline of key concepts to be included in video, with suggestions for illustrating concepts

—Working with NIC, production company develops initial treatment and/or storyboard

—Production company writes script and presents to NIC for review

—Production company completes script revisions and submits to NIC for approval

—Production company prepares complete shot list

—NIC schedules filming and interviews at jails

—Production company completes filming

—Production company begins offline editing

—Production company and NIC screen offline edit and select shots to be used

—Production company creates graphics

—NIC reviews and approves or asks for changes

—Production company hires professional talent for online narration

—Production company completes online edit

—Production company and NIC staff complete online screening

—NIC reviews and approves final edit

—Production company delivers final products to NIC

Deliverables: Once the production is complete and has been approved in writing by NIC, the production company will deliver (1) one 20- to 25-minute master copy suitable for duplicating, 2) various high-definition files (including prores and h.264) for play on computers, tablets, and smartphones and online delivery through YouTube and Vimeo, and (3) all video/b-roll used in this production.

FOR FURTHER INFORMATION CONTACT: All technical or programmatic questions concerning this announcement should be directed to Danny Downes, Correctional Program Specialist, National Institute of Corrections who may be reached by email at d2downes@bop.gov. In addition to the direct reply, all questions and responses will be posted on NIC's Web site at www.nicic.gov for public review (the names or affiliations of those submitting questions will not be posted). The Web site will be updated regularly and postings will remain on the Web site until the closing date of this cooperative agreement solicitation.

Application Requirements: Application Requirements: Applications should be typed, double spaced, in 12-point font, and reference the project by the “NIC Opportunity Number” (13JD05) and title in this announcement, “Video Production: Direct Supervision Jails.” The package must include: A cover letter that identifies the audit agency responsible for the applicant's financial accounts as well as the audit period or fiscal year that the applicant operates under (e.g., July 1 through June 30); a concisely written program narrative, not to exceed 30 numbered pages, in response to the statement of work, and a detailed budget with a budget narrative explaining projected costs. Applicants may submit a description of the project teams' qualifications and expertise relevant to the project, but should not attach lengthy resumes. Large attachments to the proposal describing the organization or examples of other past work are discouraged. Applicants must also attach 2 samples of a video production completed by the applicant. The applicant organization must specify its role in the production of the sample videos. As noted above, the three copies of 2 sample videos must also be submitted before the application due date (to ensure timely delivery of the video please send via a commercial carrier (e.g., FedEx, UPS, DHL, etc.) directly to NIC c/o Danny Downes at 500 First Street NW., Washington, DC 20534. Attachments should not exceed 5MB.

The following forms must also be included: OMB Standard Form 424, Application for Federal Assistance; OMB Standard Form 424A, Budget information—Non-Construction Programs; OMB Standard Form 424B, Assurances—Non-Construction Programs (these forms are available at (http://www.grants.gov) and DOJ/NIC Certification Regarding Lobbying; Debarment, Suspension and Other Responsibility Matters; and the Drug-Free Workplace Requirements (available at http://nicic.gov/Downloads/General/certif-frm.pdf.

Failure to supply all required forms with the application package may result in disqualification of the application from consideration.

Note: NIC will not award a cooperative agreement to an applicant who does not have a Dun and Bradstreet Database Universal Number (DUNS) and is not registered in the Central Contractor Registry (CCR). A DUNS number can be received at no cost by calling the dedicated toll-free DUNS number request line at 1-800-333-0505 (if you are a sole proprietor, you would dial 1-866-705-5711 and select option 1).

Registration in the CRR can be done online at the CCR Web site: http://www.bpn.gov/ccr. A CCR Handbook and worksheet can also be reviewed at the Web site.

Review Considerations: Applications received under this announcement will be subject to the NIC Review Process. Proposals which fail to provide sufficient information to allow evaluation under the criteria below may be judged non-responsive and disqualified.

The criteria for the evaluation of each application will be as follows:

Programmatic (40%)

Are all of the project tasks adequately discussed? Is there a clear statement of how each task will be accomplished to include the overall project goal(s), major tasks to achieve the goals(s), the strategies to be employed in completing the tasks, required staffing, and other required resources? Are there any approaches, techniques, or design aspects proposed that are new to NIC and will enhance the project?

Organizational (35%)

Do the proposed project staff members possess the skills, knowledge, and expertise necessary to complete the tasks listed under the scope of work as evidenced in the sample video? Does the applicant organization, group, or individual have the organizational capacity to achieve all project tasks? Does the proposal contain project management and staffing plans that are realistic and sufficient to complete the project within the project time frame?

Project Management/Administration (25%)

Does the applicant identify reasonable objectives, milestones, and measures to track progress? If consultants and/or partnerships are proposed, is there a reasonable justification for their inclusion in the project, and a clear structure to ensure effective coordination? Is the proposed budget realistic, does it provide a sufficient cost detail/narrative, and does it represent good value relative to the anticipated results?

Specific Requirements: Documents or other media that are produced under this award must follow these guidelines: Prior to the preparation of the final draft of any document or other media, the awardee must consult with NIC's Writer/Editor concerning the acceptable formats for manuscript submissions and the technical specifications for electronic media. For all awards in which a document will be a deliverable, the awardee must follow the guidelines listed herein, as well as follow the Guidelines for Preparing and Submitting Manuscripts for Publication as found in the “General Guidelines for Cooperative Agreements,” which can be found on our Web site at www.nicic.gov/cooperativeagreements.

All final documents and other materials submitted under this project must meet the federal government's requirement for Section 508 accessibility, including those provisions outlined in 1194 Subpart B, Technical Provisions, Subpart C, Functional Performance Criteria; and Subpart D, Documentation and Support, NIC's government product accessibility template (see www.nicic.gov/section508) outlines the agency's minimum criteria for meeting this requirement; a completed form attesting to the accessibility of project deliverables should accompany all submissions.

Note Concerning Catalog of Federal Domestic Assistance Number: The Catalog of Federal Domestic Assistance (CFDA) should be entered into box 10 of the SF 424. The CFDA number for this solicitation is 16.603—Technical Assistance/Clearinghouse. You are subject to the provisions of Executive Order 12372. The order allows states the option of setting up a system for reviewing applications from within their states for assistance under certain Federal programs. You must notify the Single State Point of Contact in your state, if it exists, of this application before NIC can make an award. Applicants (other than Indian tribal governments recognized by the Federal government) should contact their State Single Point of Contact (SPOC), a list of which can be found at http://www.whitehouse.gov/omb/grants_spoc. Check the appropriate box in section 16 of the SF-424.

Robert M. Brown, Jr.,
Acting Director, National Institute of Corrections.

[FR Doc. 2013-16482 Filed 7-8-13; 8:45 am]

BILLING CODE 4410-36-P